ENVIRONMENTAL PROTECTION AGENCY

[FRL-7858-3]

Science Advisory Board Staff Office; Notification of an Upcoming Meeting of the Science Advisory Board; Second Generation Model Advisory Panel

AGENCY: Environmental Protection Agency (EPA).

ACTION: Notice.

SUMMARY: The EPA Science Advisory Board (SAB) Staff Office announces a public meeting of the Second Generation Model (SGM) Advisory Panel.

DATES: A public meeting of the SAB SGM Advisory Panel will be held on February 4, 2005, from 8:30 a.m. to 3:30 p.m. (eastern time) in the SAB Conference Center at 1025 F Street, NW., Washington, DC 20004.

FOR FURTHER INFORMATION: Any member of the public who wishes to submit written or brief oral comments (five minutes or less) must contact Dr. Holly Stallworth, Designated Federal Officer, at (202) 343-9867 or via e-mail at: stallworth.holly@epa.gov. Any member of the public wishing further information regarding the SAB or the SGM Advisory Panel may also contact Dr. Stallworth, or visit the SAB Web site at: http://www.epa.gov/sab/.

Technical Contact: The technical contact in EPA's Office of Atmospheric Programs for the Second Generation Model is Michael Leifman who can be reached at (202) 343-9380, or via e-mail at: leifman.michael@epa.gov.

SUPPLEMENTARY INFORMATION: Background: After receiving a request from EPA's Office of Atmospheric Programs to provide advice on the Second Generation Model, the SAB Staff Office formed an SAB Panel to respond to the Agency's request. A “widecast” soliciting expertise for the SGM Advisory Panel was provided in a Federal Register notice published on July 9, 2004 (69 FR 41474-41475). Another Federal Register notice published on November 18, 2004 (69 FR 67579-67580) provided notice of a December 2, 2004 teleconference of the SGM Advisory Panel. Posted on the SAB Web site (http://www.epa.gov/sab/) are a final roster of the Panel and charge questions from the Office of Atmospheric Programs. Additional background material on the Second Generation Model may be found at: http://www.epa.gov/air/sgm-sab.html. On February 4, 2005, panelists will hear from the model developers, discuss background materials and plan for the writing of the SAB Panel's advice. A meeting agenda will be posted on the SAB Web site prior to February 4, 2005.

Procedures for Providing Public Comment. It is the policy of the SAB Staff Office to accept written public comments of any length, and to accommodate oral public comments whenever possible. The SAB Staff Office expects that public statements presented at the SGM Advisory Panel's meetings will not be repetitive of previously submitted oral or written statements. Oral Comments: Requests to provide oral comments must be in writing (e-mail, fax or mail) and received by Dr. Stallworth no later than five business days prior to the teleconference in order to reserve time on the meeting agenda. For teleconferences, opportunities for oral comment will usually be limited to no more than three minutes per speaker and no more than fifteen minutes total. Written Comments: Although written comments are accepted until the date of the meeting (unless otherwise stated), written comments should be received in the SAB Staff Office at least five business days prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 98/2000/XP format).

Meeting Accommodations: Individuals requiring special accommodation to access the public meetings listed above should contact the DFO at least five business days prior to the meeting so that appropriate arrangements can be made.

Dated: December 17, 2004.
Vanessa T. Vu,
Director, EPA Science Advisory Board Staff Office.

[FR Doc. 05-267 Filed 1-5-05; 8:45 am]

BILLING CODE 6560-50-P